Proclamation 8677 of May 13, 2011

World Trade Week, 2011

By the President of the United States of America

A Proclamation

American businesses embody the ingenuity and entrepreneurship that has defined our Nation since its founding, and they consistently reinvent themselves to adapt to changing times. As we recover from a historic economic recession, enterprising commercial leaders continue to look beyond our borders to supply the world with innovative and technologically advanced products and services. Millions of jobs in the United States are tied to exports, and our world continues to grow more interdependent.

World Trade Week is a time to highlight the vital connection between the global economy and the prosperity of our own country. Our 21st-century economy requires American businesses and workers to compete in an international marketplace. To ensure our success, we must advance a robust, forward-looking trade agenda that emphasizes exports and domestic job growth.

Last year, my Administration launched the National Export Initiative, an effort to marshal the full resources of the Federal Government behind America’s businesses, large and small, and help them sell their goods, services, and ideas to the world. Though the United States remains a leading exporter, this Initiative is redoubling our efforts to ensure American companies have free and fair access in trade, and it is building on our successes in export-driven growth. Through this effort, we can help even more American companies grow, compete, and thrive in global markets and help reach our goal of doubling exports in 5 years by 2015. In turn, those companies will be able to hire more American workers to produce the goods and services they sell to customers around the world.

By out-innovating, out-educating, and out-building the rest of the world, we can keep Americans working and export more of the high-quality products and services for which our workers and companies are admired. With a commitment to winning the future, we can continue to lead the world in attracting the jobs, businesses, and industries of tomorrow.

NOW, THEREFORE, I, BARACK OBAMA, President of the United States of America, by virtue of the authority vested in me by the Constitution and the laws of the United States, do hereby proclaim May 15 through May 21, 2011, as World Trade Week. I encourage all Americans to observe this week with events, trade shows, and educational programs that celebrate and inform Americans about the benefits of trade to our Nation and the global economy.

IN WITNESS WHEREOF, I have hereunto set my hand this thirteenth day of May, in the year of our Lord two thousand eleven, and of the Independence of the United States of America the two hundred and thirty-fifth.

[FR Doc. 2011-12549

Filed 5-18-11; 11:15 am]

Billing code 3195-W1-P